NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: September 7, 2011.

Time: 9 a.m. to 5 p.m.

Location: Room 315.

Program: This meeting will review applications for Humanities Initiatives at Historically Black Colleges and Universities, High Hispanic Enrollment, and Tribal Colleges and Universities, submitted to the Division of Education Programs at the June 30, 2011 deadline.

2. Date: September 8, 2011.

Time: 9 a.m. to 5 p.m.

Place: Worburn House Conference Centre, 20 Tavistock Square, London, United Kingdom WC1H9HQ.

Program: This meeting will review applications for Digging into Data Challenge in Digging into Data Program, submitted to the Office of Digital Humanities at the June 16, 2011 deadline.

3. Date: September 8, 2011.

Time: 9 a.m. to 5 p.m.

Place: Joint Information Systems Committee, London Offices, Brettenham House, 5 Lancaster Place, Conference Room 1, London, United Kingdom WC2E7EN.

Program: This meeting will review applications for Digging into Data Challenge in Digging into Data Program, submitted to the Office of Digital Humanities at the June 16, 2011 deadline.

4. Date: September 8, 2011.

Time: 9 a.m. to 5 p.m.

Location: Room 315.

Program: This meeting will review applications for Humanities Initiatives at Historically Black Colleges and Universities, High Hispanic Enrollment, and Tribal Colleges and Universities, submitted to the Division of Education Programs at the June 30, 2011 deadline.

5. Date: September 8, 2011.

Time: 9 a.m. to 5 p.m.

Location: Room 421.

Program: This meeting will review applications for Africa and the Middle East in Bridging Cultures through Film Grants Program, submitted to the Division of Public Programs at the June 29, 2011 deadline.

6. Date: September 9, 2011.

Time: 9 a.m. to 5 p.m.

Place: Joint Information Systems Committee, London Offices, Brettenham House (South Entrance), 5 Lancaster Place, Conference Room 2, London, United Kingdom WC2E7EN.

Program: This meeting will review applications for Digging into Data Challenge in Digging into Data Program, submitted to the Office of Digital Humanities at the June 16, 2011 deadline.

7. Date: September 9, 2011.

Time: 9 a.m. to 5 p.m.

Place: Joint Information Systems Committee, London Offices, Brettenham House, 5 Lancaster Place, Conference Room 1, London, United Kingdom WC2E7EN.

Program: This meeting will review applications for Digging into Data Challenge in Digging into Data Program, submitted to the Office of Digital Humanities at the June 16, 2011 deadline.

8. Date: September 9, 2011.

Time: 9 a.m. to 5 p.m.

Location: Room 421.

Program: This meeting will review applications for Asia in Bridging Cultures through Film Grants Program, submitted to the Division of Public Programs at the June 29, 2011 deadline.

9. Date: September 12, 2011.

Time: 9 a.m. to 5 p.m.

Location: Room 315.

Program: This meeting will review applications for Humanities Initiatives at Historically Black Colleges and Universities, High Hispanic Enrollment, and Tribal Colleges and Universities, submitted to the Division of Education Programs at the June 30, 2011 deadline.

10. Date: September 12, 2011.

Time: 9 a.m. to 5 p.m.

Location: Room 421.

Program: This meeting will review applications for “Civility and Democracy” or “The Muslim World and the Humanities” in the Bridging Cultures Implementation Grants for Public Programs, submitted to the Office of the Chairman and the Division of Public Programs at the August 2, 2011 deadline.

11. Date: September 13, 2011.

Time: 9 a.m. to 5 p.m.

Location: Room 421.

Program: This meeting will review applications for the Americas in Bridging Cultures through Film Grants Program, submitted to the Division of Public Programs at the June 29, 2011 deadline.

12. Date: September 13, 2011.

Time: 9 a.m. to 5 p.m.

Location: Room 315.

Program: This meeting will review applications for Humanities Initiatives at Historically Black Colleges and Universities, High Hispanic Enrollment, and Tribal Colleges and Universities, submitted to the Division of Education Programs at the June 30, 2011 deadline.

13. Date: September 15, 2011.

Time: 9 a.m. to 5 p.m.

Location: Room 421.

Program: This meeting will review applications for Europe in Bridging Cultures through Film Grants Program, submitted to the Division of Public Programs at the June 29, 2011 deadline.

14. Date: September 26, 2011.

Time: 9 a.m. to 5 p.m.

Location: Room 315.

Program: This meeting will review applications for Request for Proposals for A Cooperative Agreement with NEH to Support Bridging Cultures at Community Colleges, submitted to the Division of Education Programs at the August 23, 2011 deadline.

15. Date: September 27, 2011.

Time: 9 a.m. to 5 p.m.

Location: Room 315.

Program: This meeting will review applications for Request for Proposals for A Cooperative Agreement with NEH to Support Bridging Cultures at Community Colleges, submitted to the Division of Education Programs at the August 23, 2011 deadline.

16. Date: September 27, 2011.

Time: 9 a.m. to 5 p.m.

Location: Room 415.

Program: This meeting will review applications for History of Science, Technology, and Medicine in Preservation and Access Humanities Collections and Reference Resources, submitted to the Division of Preservation and Access at the July 20, 2011 deadline.

17. Date: September 29, 2011.

Time: 9 a.m. to 5 p.m.

Location: Room 415.

Program: This meeting will review applications for World Studies I (The Americas) in Preservation and Access Humanities Collections and Reference Resources, submitted to the Division of Preservation and Access at the July 20, 2011 deadline.

Michael P. McDonald,
Advisory Committee Management Officer.

[FR Doc. 2011-21445 Filed 8-22-11; 8:45 am]

BILLING CODE 7536-01-P